DEPARTMENT OF STATE

[Public Notice 6948]

Bureau of Educational and Cultural Affairs (ECA) Request for Grant Proposals: Trans-Saharan Professionals Program

Announcement Type: New Grant.

Funding Opportunity Number: ECA/PE/C/AF-NEA-WHA-10-53.

Catalog of Federal Domestic Assistance Number: 19.415.

Key Dates:

Fiscal Year Funds: 2010.

Application Deadline: May 20, 2010.

Anticipated Award Date: September 15, 2010.

Anticipated Project Completion Date: August 31, 2012.

Approximate Total Funding: $1,650,000.

Approximate Number of Awards: 3.

Approximate Average Award: $400,000-$650,000.

Executive Summary: The Office of Citizen Exchanges of the Bureau of Educational and Cultural Affairs (ECA/PE/C) announces an open competition for grants to conduct one of three professional exchange programs in the Trans-Sahara Africa Region. The Office anticipates awarding separate grants to three different organizations, one for each of the three themes presented in this announcement.

U.S. public and non-profit organizations meeting the provisions described in Internal Revenue code section 26 U.S.C. 501(c)(3) may submit proposals that support the goals of the Trans-Saharan Professionals Program. These goals, which encompass both bureau and programmatic goals, are: (1) To provide foreign participants from eligible countries an opportunity for professional development through three- to four-week study tours and internships in the U.S.; (2) to provide U.S. participants the opportunity to share their professional expertise with counterparts in eligible countries while also learning from them; (3) to promote mutual understanding and partnerships between key professional groups in the United States and counterpart groups in eligible countries with a plan for working relationships to continue well beyond the period of ECA funding; and (4) encourage mass media to report on the program to a wider audience. Proposed projects should be two-way exchanges involving participants from both the U.S. and foreign countries traveling to each others' countries. Each project should contribute to the strengthening of civil society where it is carried out. Participants in these projects will be provided professional learning programs that will enhance their careers with the expectation that they will contribute their expertise to the program.

Projects should take place over the course of approximately two years and target current or up-and-coming professional leaders who will promote positive development in their communities. Specific themes of interest in this competition include: Elections, Business Development, and Community Leadership. Eligible countries and guidance for each theme are provided in Section I.7 below. Proposals that target themes and countries not specifically mentioned in this Request for Grant Proposals will be considered technically ineligible and receive no further consideration in the review process.

Applicants may submit only one proposal under this competition. If multiple proposals are received from the same applicant, all submissions will be declared technically ineligible and receive no further consideration in the review process. No guarantee is made or implied that grants will be awarded in all themes or for all countries listed.

I. Funding Opportunity Description

I.1. Authority: Overall grant making authority for this program is contained in the Mutual Educational and Cultural Exchange Act of 1961, Public Law 87-256, as amended, also known as the Fulbright-Hays Act. The purpose of the Act is “to enable the Government of the United States to increase mutual understanding between the people of the United States and the people of other countries (* * *); to strengthen the ties which unite us with other nations by demonstrating the educational and cultural interests, developments, and achievements of the people of the United States and other nations (* * *) and thus to assist in the development of friendly, sympathetic and peaceful relations between the United States and the other countries of the world.” The funding authority for the program above is provided through legislation.

I.2. Purpose and Program Description: In this competition, the Trans-Saharan Professionals Program is conceived as a two-way exchange involving current or up-and-coming professional leaders from both the U.S. and selected African countries who will effect positive development in their communities. Professional programs will be focused in the following themes: Elections, Business Development, and Community Leadership. One grant will be awarded for each of these themes. The goals of each program are: (1) To provide African participants from eligible countries a plan for professional development through three- to four-week learning programs in the U.S.; (2) to provide U.S. participants a plan to share their professional expertise with counterparts in eligible countries while also learning from them; (3) to promote mutual understanding and partnerships between key professional groups in the United States and counterpart groups in eligible countries with a plan for working relationships to continue well beyond the period of ECA funding; and (4) to encourage mass media to report on the program to a wider audience. Projects will take place over the course of approximately two years.

Proposals should demonstrate how the grantee will creatively utilize online networking sites such as the State Department's Alumni Web site (alumni.state.gov) to engage with program participants before, during and after they take part in the international exchange and the Bureau's new social networking site, Exchanges Connect (connect.state.gov), to highlight program activities and first-person participant experiences during the program. Applicants should plan to get participants registered on the Bureau's Alumni site and assist them in using it.

I.3. Participants. For the purposes of this program, “participants” are defined as those who travel under grant funding from their country of origin to a designated exchange country. The recommended numbers of African and U.S. participants are presented in section I.7 below for each theme. Although more African participants than American participants are anticipated under this program model, it is important to emphasize that this program is reciprocal in nature and directed to mutual understanding with learning and giving on both the African and U.S. sides.

African participants should be selected through a merit-based, competitive process. They should be up-and-coming or mid-level professionals with experience or responsibility relevant to one of the specific themes. They should have good interpersonal and communication skills that will allow them to function effectively and independently in a wide variety of private, public, and professional settings in the U.S. While a command of oral and written English is highly desirable, those participants who do not possess strong English language skills should be provided with interpretation and translation assistance. Proposals should describe how participants who need language assistance will be accommodated and the costs included in the budget. Logistics and costs will be too great to recruit a separate interpreter for each African participant, so group activities with a few interpreters may be most practical. Participants should also have demonstrated leadership abilities and a commitment to or participation in a wider program, including alumni projects and affairs.

U.S. participants may include individuals who act as hosts and mentors for African participants who travel to the U.S., and professionals from government and civil society organizations with expertise relevant to the project focus. While U.S. participants are not required to have relevant foreign language capability, it is recommended. As with the African participants, proposals should describe how language interpretation needs will be handled and their costs included in the budget.

Applicants should plan to program the number of participants noted in section I.7 below, or more, and maximize the lengths of the U.S.- and African-based programs within the given funding levels. Therefore, applicants that use home-stays, engage public and private partners who provide programming support, maximize cost sharing, and employ other creative techniques to increase or stretch funding dollars will be deemed more competitive under the cost effectiveness/cost sharing review criterion reference below. Grantees must assure that home-stay lodging will be of appropriate good quality for safety, cleanliness, and comfort.

I.4. Partner Organizations. Applicants must identify the U.S.-based and foreign-based organizations and individuals with whom they are proposing to collaborate and describe previous cooperative activities, if any.

I.5. Project Activities. To be successful, grant applicants must convincingly demonstrate a capacity to achieve the following key activities:

I.5a. Recruit Participants. The recipient of this award will recruit qualified individuals throughout the target countries for both spring and fall delegates. African participants should be selected through a merit-based, competitive process with the knowledge and participation of the Public Affairs Section (PAS) of the U.S. Embassy. An in-country or regional partner organization(s) or office is also required to coordinate screening, selecting, and preparing participants prior to departure for the United States including a formal pre-departure orientation program.

I.5b. Facilitate the Visa Process. The grant recipient must work with ECA and the relevant Public Affairs Sections of U.S. embassies to secure U.S. visas for African participants, and work directly with the partner country embassy to secure visas for U.S. participants. ECA will issue the DS-2019 forms required for the J visas on which foreign participants must travel when participating in an ECA-sponsored program.

I.5c. Arrange All Round-trip International Travel, complying with the Fly America Act, and domestic travel arrangements for the participants.

I.5d. Conduct U.S.-Based Learning Programs. The recipient of this award will be responsible for designing and implementing learning programs from three to four weeks in the United States for African participants. ECA is open to creative and cost-efficient approaches for program content. U.S.-based home-stays for African participants are recommended to reduce costs while providing cultural learning. The grantee may consider engaging a partner or sub-grantee to arrange for internship placements or other specialized learning activities. The link of project activities to project objectives should be explained.

I.5e. Conduct an Overseas Program for U.S. Participants. The recipient of this award will conduct an overseas program in which U.S. participants will travel for two to three weeks to conduct on-site consultancies and joint programming with African participants and their colleagues, and, if appropriate and feasible, reciprocal internships to share their professional expertise and learn from their counterparts. Home-stays may also be considered. The overseas program should be designed to engage a broad audience beyond the original African participants. Proposals should demonstrate how the grantee would work with a community-based partner overseas to engage a wide range of people and will sustain the program benefits beyond the period of the grant. The link of project activities to project objectives should be explained.

I.5f. Conduct a Second Round of U.S. Studies and Overseas Programs. The recipient of this award will conduct a second round of U.S.-based learning activities and overseas programs of a similar nature as described in I.5d and I.5e above in order to build on the work of the first cohorts.

I.5g. Conduct Orientation and Professional Conference. The grantee will also be responsible for conducting a thorough orientation for African participants upon their arrival in the United States, as well as a concluding conference in Washington, DC, to be coordinated with the ECA's Office of Citizen Exchanges and with other grantees in this set of three thematic projects. For the Professionals Conference, grantees will be responsible for providing transportation, lodging, per diem and miscellaneous expenses for all program fellows for a minimum of one day in Washington, DC. These costs should be included in the proposal budget. The ECA Office of Citizen Exchanges will work with the grantees to plan one day's activities in Washington that will introduce the participants to Department leaders, explain support available for alumni activities, and arrange visits to other relevant Government offices. Grantees will be responsible for planning any activities in Washington, DC, beyond that day.

I.5h. Monitor, Evaluate, and Report on Project. ECA places high importance on monitoring and evaluation as a means of ensuring and measuring a project's success. Proposals must include a detailed monitoring and evaluation plan that assesses the impact of the project. Please refer to section. III.3d.3. Project Monitoring and Evaluation below.

I.5i. Engage Media (journalists in press, radio, television, and Web activities) who will report on program activities to wider audiences.

I.5j. Carry Out Follow-up Activities. The recipient of this award will develop enhancement activities that reinforce program goals after the participants' return to their home countries. This commitment must include informing participants of the Bureau's Alumni program, facilitating their enrollment, and developing plans for their on-going participation. Please refer to the PSI for additional information on Alumni, Outreach, and Engagement.

I.5k. Manage All Financial Aspects of the Project, including participant costs and transparent arrangements of sub-grant relationships with partner organizations, if applicable.

I.6. Projected Timeline. ECA envisions that the Professional Fellows program calendar will be approximately as follows:

• September 2010—January 2011: Recruitment and selection of African participants and securing U.S.-based hosts and learning sites.

• March—May 2011: Travel to the United States by half of the African participants for orientation and placement at learning sites for a three- to four-week program.

• May 2011: Travel by the African participants to Washington, DC at or towards the end of their U.S.-based program for an enrichment conference arranged in conjunction with the ECA Office of Citizen Exchanges.

• June—September 2011: The U.S. participants who were involved in the spring 2011 hosting and education will travel overseas for two-three weeks of programming.

• October—December 2011: Travel to the United States by the remaining half of the African participants for orientation and placement at learning sites for a three- to four-week program.

• November—December 2011: Travel by the remaining African participants to Washington, DC at or towards the end of their U.S.-based program for an enrichment conference arranged in conjunction with the ECA Office of Citizen Exchanges.

• January—May 2012: The U.S. participants who were involved in the fall 2011 hosting and education will travel overseas for two-three weeks of programming.

I.7. Themes. Specific grant awards will be made for Professional Fellowships to be carried out in the following themes and countries:

I.7a. Elections Fellows: Grant not to exceed $650,000: Free and fair elections are a crucial component of democracy. Only as government leaders are selected through open procedures in which citizens can freely participate can the public have confidence in their government. The Elections exchange project should focus on six francophone countries that are scheduled to hold elections in the next couple of years: Burkina Faso, Chad, Mali, Mauritania, Niger, Senegal. This special Professional Exchanges initiative will engage governmental and nongovernmental leaders on the following and related issues at the grassroots level that contribute to free and fair elections: Voter registration and education, election monitoring, campaign guidelines, the role of media and citizens' organizations, and protection of voter privacy.

This will be a two-year exchange and education program. In the first year, a U.S. delegation of six experts on the issues noted above will travel to the six countries to solidify working plans with local partners and, with U.S. Embassy/PAS assistance, recruit Africans who will come to the U.S. In the next phase, a delegation made up of three Africans from each of the six countries will come to the U.S. for 3-4 weeks of study of electoral processes, the role of media and citizens' organizations, and the education and activities of voters. This delegation will include leaders with (a) community responsibilities (such as League of Women Voters in the U.S.) for informing voters and monitoring electoral procedures, (b) governmental responsibility for an aspect of elections, and (c) media assignment to cover elections. Toward the end of this delegation's study in the U.S., they should be brought to Washington, DC, for a one-day conference planned in conjunction with the ECA Office of Citizen Exchanges which will introduce relevant elements of the Federal Government. In the second year, another delegation of six U.S. experts will travel to the six partner countries to assess the impact of the first year's work and to recruit another delegation of Africans to come to the U.S. That second delegation of Africans will again include three community leaders from each of the six countries and will be programmed to work with American counterparts for 3-4 weeks. Again, toward the end of this delegation's study in the U.S., they should be brought to Washington, DC, for a one-day conference planned in conjunction with the Office of Citizen Exchanges which will introduce relevant elements of the Federal Government, with the grantee responsible for any additional activities in DC beyond that day. Thus, over the two-year period of the grant, 36 Africans will come to the U.S. and 12 Americans will travel to Africa.

I.7a.1. Trans-Saharan Africa:

Countries: Burkina Faso, Chad, Mali, Mauritania, Niger, and Senegal.

Program Contact: Jim Ogul; tel: (202) 632-6055, e-mail: ogulje@state.gov.

I.7b. Business Development Fellows: Grant not to exceed $600,000: Unemployment rates are high among young adults in Africa, and those young adults make up a majority of populations in the Trans Saharan countries. The lack of jobs leads to frustration, and vulnerability to extremist views is widespread. This new Professional Exchanges program will offer entrepreneurship education, including the skills to assess business risk without crushing it and an emphasis on creating new jobs or businesses. These skills will include identifying a market, raising start-up funds, designing a business plan, managing staff, advertising, and understanding the legal environment for business development. The focus will be on five francophone West African countries with similar colonial histories: Burkina Faso, Chad, Mali, Niger, and Senegal.

This will be a two-year exchange and education program in new business development. In the first year, a U.S. delegation of five experts on entrepreneurship and business development would travel to the five target countries to solidify working plans with local partners and, with U.S. Embassy/PAS assistance, recruit Africans who will come to the U.S. In the next phase, a delegation made up of three Africans from each of the five countries would come to the U.S. for 3-4 weeks to study new business development. This delegation would include young adults, both women and men, who have demonstrated an aptitude for entrepreneurship and planning. Toward the end of this delegation's study in the U.S., they should be brought to Washington, DC, for a one-day conference planned in conjunction with the ECA Office of Citizen Exchanges which will introduce relevant elements of the Federal Government, with the grantee responsible for arranging any activities in DC beyond that day. In the second year, another delegation of five U.S. experts would travel to the five partner countries to assess the impact of the first year's work and to recruit another delegation of Africans to come to the U.S. That second delegation of Africans would again include three young adults with promising aptitudes from each of the five countries and would be programmed to work with American counterparts for 3-4 weeks. Again, toward the end of this delegation's study in the U.S., they should be brought to Washington, DC, for a one-day conference planned in conjunction with the ECA Office of Citizen Exchanges which will introduce relevant elements of the Federal Government, with the grantee responsible for arranging any activities in DC beyond that day. Thus, over the two-year period of the grant, 30 Africans will travel to the U.S. and 10 Americans will travel to Africa.

I.7b.1. Trans-Saharan Africa:

Countries: Burkina Faso, Chad, Mali, Niger, and Senegal.

Program Contact: Jim Ogul; tel: (202) 632-6055, e-mail: ogulje@state.gov.

I.7c. Leadership Fellows: Grant not to exceed $400,000: This program will promote leadership development in community and governmental affairs in three of the five eligible countries. Grant applicants must choose three countries from the list below and explain those choices. The program will emphasize both leadership skills and ethical standards, while introducing participants to the structure and foundation of the U.S. government, emphasizing separation of powers, checks and balances, transparency in operations, as well as citizen participation in the decision-making process. Participants will observe diverse examples of leadership and the evolving role of women and minorities in business, government, community, and social affairs. This project could focus on leaders in dispute resolution and cross-cultural dialogue, community organizers, activists from grassroots organizations, business leaders, media representatives, and/or government officials.

This will be a two-year exchange and education program in leadership. In the first year, a U.S. delegation of four experts on leadership would travel to the three target countries to solidify working plans with local partners and, with U.S. Embassy/PAS assistance, recruit Africans who will come to the U.S. In the next phase, a delegation made up of four Africans from each of the three countries would come to the U.S. for 3-4 weeks to study leadership development. This delegation will include young adults, both women and men, who have demonstrated an aptitude for leadership and community outreach. Toward the end of this delegation's study in the U.S., they should be brought to Washington, DC, for a one-day conference planned in conjunction with the ECA Office of Citizen Exchanges which will introduce relevant elements of the Federal Government, with the grantee responsible for any activities in DC beyond that day. In the second year, another delegation of four U.S. experts will travel to the three partner countries to assess the impact of the first year's work and to recruit another delegation of Africans to come to the U.S. That second delegation of Africans will again include four young adults with promising aptitudes from each of the three countries and will be programmed to travel to the U.S. to work with American counterparts for 3-4 weeks. Again, toward the end of this delegation's study in the U.S., they should be brought to Washington, DC, for a one-day conference planned in conjunction with the ECA Office of Citizen Exchanges which will introduce relevant elements of the Federal Government, with the grantee responsible for any activities in DC beyond that day. Thus, over the two-year program, the grant will sponsor 24 Africans coming to the U.S. and 8 Americans going to Africa.

I.7c.1. Trans-Saharan Africa:

Countries: Choose three from these eligible countries: Burkina Faso, Chad, Mali, Mauritania, Niger, and Senegal.

Program Contact: Jim Ogul; tel: (202) 632-6055, e-mail: ogulje@state.gov.

I.8. What to Include in Your Proposal:

I.8a. Executive Summary. The Executive Summary should be one-page in length and include the project title, the goals of the project, the target countries, the names of all partner organizations responsible for program implementation, the numbers of participants, both African and American, and the number of proposed exchanges and approximate dates.

I.8b. Proposal Narrative. In no more than 20, double-spaced pages, the narrative should include:

I.8b.1. Project Goals, Objectives, Anticipated Outcomes. A clear, succinct statement of project goals, objectives and anticipated outcomes that responds to Bureau goals as listed in this RFGP. Objectives should be described in specific, measurable, and realistic terms that are achievable within the scope of the project, both in terms of time and funding. Specify the project's broader objectives in terms of bureau and overarching program outcomes. Then delineate the project's main objectives (no more than five) and outcomes you expect as a result of your project's activities. For each outcome, please state the time frame for achievement. They should be guided by one or more of the following questions. (Please see section III.3d.3. Project Monitoring and Evaluation for assistance in identifying and defining outcomes.)

1. What specifically will participants, U.S. and African, learn as a result of this project?

2. What new attitudes will participants, U.S. and African, develop, or what new ideas will they encounter as a result of this project?

3. How will the participants' behavior change as a result of this project? What new actions will they take?

4. How will participants be a catalyst for change in their businesses, schools, work-places, governments, communities, or institutions?

Proposals that clearly delineate salient objectives in measurable terms and plan activities in a sequence that will progressively lead to achieving those objectives, will be considered more competitive.

I.8b.2. Background Information on Implementing Organizations. Information on all organizations and staff involved in the implementation of the project including the mission, relevant expertise in the project theme and countries, past activities and accomplishments, on-going and planned activities not including the proposed project. Previous grants received from the Bureau should be listed by office (Citizen Exchanges, International Visitors, Academic Exchanges, etc.) project name, countries, year, and amount.

I.8b.3. Roles and Responsibilities. A clear delineation of the roles and responsibilities of all partner organizations in terms of project logistics, management, and oversight. Letters of agreement and/or sub-award agreements with accompanying budgets should be included under Tab E of the submission.

I.8b.4. Project Management Plan. A simple project management plan for the two-year life of the project that lists, in table form, dates, items (major events or tasks), and the person or group responsible.

I.8b.5. Support of Diversity. A description on how the Bureau's policy on Support of Diversity will be integrated into the project. Please refer to guidance in PSI under “Diversity, Freedom and Democracy Guidelines.”

I.8b.6. Post-Grant Plan. A post-grant plan that demonstrates how the grantee and participants will collaborate and communicate after the ECA-funded grant has concluded.

I.8b.7. Evaluation Plan. An evaluation plan that follows the guidance provided in this RFGP. Please refer to section III.3d.3. “Project Evaluation” below. Detailed evaluation plans that put the narrative over the 20-page limit and sample surveys or other evaluation tools may be included in TAB E.

I.8b.8. Budget. Please refer to section IV.3e. Budget Submission in this document and the PSI for guidance on preparing your budget.

I.8b.9. Working with the Public Affairs Section. An acknowledgement to consult closely with the Public Affairs Section of the U.S. Embassy in the relevant countries to develop plans for project implementation, to select project participants, and to invite representatives of the Embassies to participate in program sessions or site visits. ECA officers can provide information for contacts at U.S. Embassies.

I.8b.10. Acknowledging ECA's Financial Support. An acknowledgement to follow guidance in the PSI entitled “Acknowledgement of ECA's Financial Support and Use of the Department Seal.”

I.8b.11. Alumni Outreach. An acknowledgement to comply with “ECA's General Policy Guidance on Alumni Outreach/Follow-on and Engagement” provided in the PSI.

I.8c. Attachments

I.8c.1. Resumes. Resumes of principal staff of all partner organizations involved in the implementation of the project should be included in TAB E. These resumes should not exceed two pages.

I.8c.2. Letters of Commitment and/or Letters of Support. Letters of commitment or support from partner institutions should demonstrate a capacity and commitment to arrange and conduct U.S. and overseas activities and should also be included in TAB E.

I.8c.3. Program Materials. Materials that advance program design and implementation should be included in TAB E. These include:

1. Draft agendas of professional workshops, conferences and seminars including pre-departure orientation and final conference activities.

2. Draft application and recruitment materials.

3. Draft selection and interview materials.

4. Outline of proposed alumni programming.

5. Sample evaluation and survey instruments.

6. Timeline for program implementation.

7. Program promotional materials.

I.8c.4. Unsolicited Documents. Attachments that do not directly address the proposed project or specifically demonstrate relevant past performance (i.e., organization publicity brochures, pamphlets, unsolicited reports) are discouraged.

II. Award Information

II.1. Type of Award: Grant Agreement.

II.2. Fiscal Year Funds: FY2010.

II.3. Approximate Total Funding: $1,650,000.

II.4. Approximate Number of Awards: 3.

II.5. Approximate Average Award: $400,000-$650,000.

III. Eligibility Information

III.1. Eligible applicants: Applications may be submitted by public and private non-profit organizations meeting the provisions described in Internal Revenue Code section 26 USC 501(c)(3).

III.2. Cost-Sharing or Matching Funds: There is no minimum percentage required for this competition. However, the Bureau encourages applicants to provide maximum levels of cost-sharing and funding in support of its programs. When cost-sharing is offered, it is understood and agreed that the applicant must provide the amount of cost-sharing as stipulated in its proposal and later included in an approved agreement. Cost sharing may be in the form of allowable direct or indirect costs. For accountability, the grantee must maintain written records to support all costs which are claimed as contributions, as well as costs to be paid by the Federal government. Such records are subject to audit. The basis for determining the value of cash and in-kind contributions must be in accordance with OMB Circular A-110 (Revised), Subpart C.23—Cost Sharing and Matching. In the event you do not provide the minimum amount of cost-sharing as stipulated in the approved budget, ECA's contribution will be reduced in like proportion.

III.3. Four Years of Exchange Experience. Bureau grant guidelines require that organizations with less than four years experience in conducting international exchanges be limited to $60,000 in Bureau funding. ECA anticipates making awards in an amount from $400,000 and higher to support program and administrative costs required to implement the programs in this RFGP. Therefore, organizations with less than four years experience in conducting international exchanges are ineligible to apply under this competition.

III.4. Technical Eligibility: All proposals must comply with the following or they will result in your proposal being declared technically ineligible and given no further consideration in the review process.

• Eligible applicants may not submit more than one proposal in this competition.

• If more than one proposal is received from the same applicant all submissions will be declared technically ineligible and will receive no further consideration in the review process. Please note: Applicant organizations are defined by their legal name, and EIN number as stated on their completed SF-424 form and additional supporting documentation outlined in the Proposal Submission Instructions (PSI) document.

• Eligible applicants may only propose working with the countries and themes listed under each of the themes of this RFGP.

• No funding is available exclusively to send U.S. citizens to conferences or conference type seminars overseas; nor is funding available for bringing foreign nationals to conferences or to routine professional association meetings in the United States.

• Please refer to the Proposal Submission Instruction (PSI) document for additional requirements.

IV. Application and Submission Information

Note: Please read the complete Solicitation Package before sending inquiries or submitting proposals. All applicants are strongly encouraged to consult with the Washington, DC-based State Department contact for the themes and countries listed in this solicitation. Applicants are also strongly encouraged to consult with Public Affairs Officers at U.S. Embassies in relevant countries as they develop proposals responding to this RFGP, and the ECA contact person can provide contact information for the U.S. Embassies. Once the RFGP deadline has passed, Bureau and Embassy staff may not discuss this competition with applicants until the proposal review process has been completed.

IV.1. Contact Information to Request a Solicitation Package: Please contact Alice Ross in the Office of Citizen Exchanges, ECA/PE/C, U.S. Department of State, SA-5, 3rd Floor, 2200 C St., NW., Washington, DC 20522-0503, ph: (202) 632-6085, RossAR@state.gov to request a Solicitation Package. Please refer to the Funding Opportunity Number ECA/PE/C/AF-NEA-WHA-10-53 located at the top of this announcement when making your request. An electronic solicitation package may be obtained from http://www.grants.gov. Please see section IV.3f for further information.

IV.2. To Download a Solicitation Package Via the Internet: The entire Solicitation Package may be downloaded from the Bureau's Web site at http://exchanges.state.gov/grants/ or from the Grants.gov Web site at http://www.grants.gov. Please read all information before downloading.

IV.3. Content and Form of Submission: Applicants must follow all instructions in the Solicitation Package. The Solicitation Package includes both the Request for Grant Proposals (RFGP) and the Proposal Submission Instruction (PSI) document, which consists of required application forms, and standard guidelines for proposal preparation. Applicants should assure that proposals respond to guidance provided in both documents.

IV.3a. DUNS number. You are required to have a Dun and Bradstreet Data Universal Numbering System (DUNS) number to apply for a grant or cooperative agreement from the U.S. Government. This number is a nine-digit identification number which uniquely identifies business entities. Obtaining a DUNS number is easy and there is no charge.

To obtain a DUNS number, go to http://www.dunandbradstreet.com or call 1-866-705-5711. Please ensure that your DUNS number is included in the appropriate box of the SF-424 which is part of the formal application package.

IV.3b. Proposal Components: All proposals must contain an executive summary, proposal narrative and budget. Please refer to the PSI document for additional formatting and technical requirements.

IV.3c. Non-Profit Status and Documentation: You must have nonprofit status with the IRS at the time of application.

Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Additional Information.

IV.3d1. Adherence to All Regulations Governing the J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, recordkeeping, reporting and other requirements. The Office of Citizen Exchanges of ECA will be responsible for issuing DS-2019 forms to participants in this program. A copy of the complete regulations governing the administration of Exchange Visitor (J) programs is available at http://travel.state.gov/visa/temp/types/types_1267.html or from: United States Department of State, Office of Exchange Coordination and Designation, (ECA/EC/D), SA-5, Floor C2, Department of State, Washington, DC 20522-0582.

IV.3d2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d3. Project Monitoring and Evaluation. This section of the RFGP amplifies the direction given in section I above on proposal framework, which calls for the delineation of objectives and planning for baseline, short term and long term outcome measurement. Proposals must include a plan to monitor and evaluate the project's success, both as the activities unfold, at the end of the project and beyond. The Bureau recommends that each proposal include a draft survey questionnaire or other instruments plus a description of a methodology to use to link outcomes to original project objectives. The Bureau expects that the grantee will track participants or partners and be able to respond to key evaluation questions, including satisfaction with the project, learning as a result of the project, changes in personal behavior as a result of the project, and effects of the project on institutions (institutions in which participants work or partner institutions). The evaluation plan should include indicators that measure gains in mutual understanding as well as substantive knowledge.

Successful monitoring and evaluation depend heavily on setting clear objectives and intended outcomes at the outset of a project. Your evaluation plan should include a description of your project's objectives, your anticipated project outcomes, and how and when you intend to measure these outcomes (performance indicators). Note that ECA recommends measurements at three points: the baseline (beginning of grant program) and for short term (end of grant activities) and longer-term outcomes (2-4 months after grant activities are completed). The more that outcomes are “smart” (specific, measurable, attainable, results-oriented, and placed in a reasonable time frame), the easier it will be to conduct the evaluation. You should also show how your project objectives link to the goals of the program described in this RFGP.

Your monitoring and evaluation plan should clearly distinguish between project outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the emphasis should be on outcomes.

We encourage you to assess the following four levels of outcomes, as they relate to the program goals set out in the RFGP (listed here in increasing order of impact):

1. Participant satisfaction with the project and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes. Overall, the quality of each monitoring and evaluation plan will be judged on how well it (1) specifies intended outcomes; (2) gives clear descriptions of how each outcome will be measured; (3) identifies when particular outcomes will be measured; and (4) provides a clear description of the data collection strategies for each outcome (e.g., surveys, interviews, tests, or focus groups). (Please note that evaluation plans that deal only with the first level of outcomes [satisfaction] will be deemed less competitive under the present evaluation criteria.) Grantees will be required to provide reports analyzing their evaluation findings to the Bureau in their regular project reports. All data collected, including survey responses and contact information, must be maintained for a minimum of three years and provided to the Bureau upon request.

IV.3e. Budget Submission. Please follow the guidelines in this section and consult the PSI when preparing the budget submission.

IV.3e.1. Form SF-424A. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs. Allowable costs for the program include the following:

IV.3e.2a. Travel. International and domestic airfare; airline baggage and seat fees; visas; transit costs; ground transportation costs. Please note that all air travel must be in compliance with the Fly America Act. There is no charge for J-1 visas for participants in Bureau sponsored programs.

IV.3e.2b. Per Diem. For U.S.-based programming, organizations should use the published Federal per diem rates for individual U.S. cities. Domestic per diem rates may be accessed at: http://www.gsa.gov/Portal/gsa/ep/contentView.do?contentType=GSA_BASIC&contentId=17943. ECA requests applicants to budget realistic costs that reflect the local economy and do not exceed Federal per diem rates. Foreign per diem rates can be accessed at: http://aoprals.state.gov/content.asp?content_id=184&menu_id=78.

IV.3e.2c. Interpreters. We encourage recruitment of participants coming to the U.S. on this program who will have good English skills. However, if circumstances warrant the use of interpretation, ECA strongly encourages applicants to hire their own locally based interpreters but they may ask ECA to assign State Department interpreters for U.S.-based activities. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally. For activities in Africa involving U.S. participants, grantees should work with African-based partners to recruit interpreters and build those costs into their budgets. Eligible costs for interpreters in Africa would include necessary travel, per diem, and honoraria.

IV.3e.2d. Book and Cultural Allowances. Foreign participants are entitled to a one-time cultural allowance of $150 per person, plus a book allowance of $50. Interpreters should be reimbursed up to $150 for expenses when they escort participants to cultural events. U.S. program staff, trainers or participants are not eligible to receive these benefits.

IV.3e.2e. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

IV.3e.2f. Room rental. The rental of meeting space should not exceed $250 per day. Any rates that exceed this amount should be cost shared.

IV.3e.2g. Materials. Proposals may contain costs to purchase, develop and translate materials for participants. Costs for high quality translation of materials should be anticipated and included in the budget. Grantee organizations should expect to submit a copy of all program materials to ECA, and ECA support should be acknowledged on all materials developed with its funding.

IV.3e.2h. Equipment. Applicants may propose to use a small amount of grant funds to purchase equipment, such as computers and printers; these costs should be justified in the budget narrative. Costs for furniture are not allowed.

IV.3e.2i. Working meal. Normally, no more than one working meal may be provided during the program. Per capita costs may not exceed $15-$25 for lunch and $20-$35 for dinner, excluding room rental. The number of invited guests may not exceed participants by more than a factor of two-to-one. When setting up a “working meal” budget, interpreters should be considered “participants.”

IV.3e.2j. Return travel allowance. A return travel allowance of $70 for each foreign participant may be included in the budget. This allowance would cover incidental expenses incurred during international travel.

IV.3e.2k. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

IV.3e.2l. Wire transfer fees. When necessary, applicants may include costs to transfer funds to partner organizations overseas. Grantees are urged to research applicable taxes that may be imposed on these transfers by host governments.

IV.3e.2m. In-country travel costs for visa processing purposes. Given the requirements associated with obtaining J-1 visas for ECA-supported participants, applicants should include costs for any travel associated with visa interviews or DS-2019 pick-up.

IV.3e.2n. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources. Please also include in the administrative portion of your budget plans to travel to Washington, DC, to meet with your program officer within the first 45 days after the grant has been awarded.

IV.3f. Application Deadline and Methods of Submission.

Application Deadline Date: May 20, 2010.

Reference Number: ECA/PE/C/AF-NEA-WHA-10-53.

Methods of Submission:

Applications may be submitted in one of two ways: (1.) In hard-copy, via a nationally recognized overnight delivery service (i.e., Federal Express, UPS, Airborne Express, or U.S. Postal Service Express Overnight Mail, etc.), or (2.) electronically through http://www.grants.gov. Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight (8) copies of the application should be sent to: Program Management Division, ECA-IIP/EX/PM, Ref.: ECA/PE/C-10-01, SA-5, Floor 4, Department of State, 2200 C Street, NW., Washington, DC 20522-0504.

Applicants submitting hard-copy applications must also submit the “Executive Summary” and “Proposal Narrative” sections of the proposal in text (.txt) or Microsoft Word format on CD-ROM. As appropriate, the Bureau will provide these files electronically to Public Affairs Sections at the U.S. embassies for their review.

IV.3f.2. Submitting Electronic Applications.

Applicants have the option of submitting proposals electronically through Grants.gov (http://www.grants.gov). Complete solicitation packages are available at Grants.gov in the “Find” portion of the system.

Please Note: Due to Recovery Act related opportunities, there has been a higher than usual volume of grant proposals submitted through Grants.gov. Potential applicants are advised that the increased volume may affect the grants.gov proposal submission process. As stated in this RFGP, ECA bears no responsibility for applicant timeliness of submission or data errors resulting from transmission or conversion processes for proposals submitted via Grants.gov.

Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov. The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days.

V. Application Review Information

V.1. Review Process. The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review.

Proposals may also be reviewed by the Office of the Legal Adviser or by other Department elements. Final funding decisions are at the discretion of the Department of State's Assistant Secretary for Educational and Cultural Affairs. Final technical authority for assistance award grants resides with the Bureau's Grants Officer.

V.2 Review Criteria. Technically eligible applications will be competitively reviewed according to the criteria stated below. These criteria are not rank ordered and all carry equal weight in the proposal evaluation:

V.2a. Quality of Program Idea: Proposals should exhibit originality, substance, precision, and relevance to the Bureau's mission.

V.2b. Program Planning and Ability to Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, internships, seminars and/or consulting should be described in detail. Sample schedules should be outlined. Responsibilities of proposed in-country partners should be clearly described. A discussion of how the applicant intends to address language issues should be included, if needed.

V.2c. Institutional Capacity and Track Record: Proposals should include (1) the institution's mission and date of establishment; (2) detailed information about proposed in-country partner(s) and the history of the partnership; (3) an outline of prior awards—U.S. government and/or private support received for the target theme/country/region; and (4) descriptions of experienced staff members who will implement the program. The proposal should reflect the institution's expertise in the subject area and knowledge of the conditions in the target countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

V.2d. Cost Effectiveness and Cost Sharing: Overhead and administrative costs in the proposal budget, including salaries, honoraria and subcontracts for services, should be kept to a minimum. Proposals in which the administrative costs do not exceed 25% of the total requested ECA grant funds will be more competitive (see IV.3e.2 14 for clarification on this). Applicants are strongly encouraged to cost share a portion of overhead and administrative expenses. Cost-sharing, including contributions from the applicant, proposed in-country partner(s), and other sources should be included in the budget request. Proposal budgets that do not reflect cost sharing will be deemed not competitive on this criterion.

V.2e. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI).

V.2f. Follow-on Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

V.2g. Program Monitoring and Evaluation: Proposals should include a detailed plan to monitor and evaluate the program. Program objectives should target clearly defined results in quantitative terms. Competitive evaluation plans will describe how applicant organizations would measure these results, and proposals should include draft data collection instruments (surveys, questionnaires, etc.) in Tab E.

VI. Award Administration Information

VI.1. Award Notices. Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application. Unsuccessful applicants will receive notification of the results of the application review from the ECA program office coordinating this competition.

VI.2. Administrative and National Policy Requirements. Terms and Conditions for the Administration of ECA agreements include the following Office of Management and Budget (OMB) guidance:

• Circular A-122, “Cost Principles for Nonprofit Organizations.”

• Circular A-21, “Cost Principles for Educational Institutions.”

• Circular A-87, “Cost Principles for State, Local and Indian Governments.”

• Circular A-110 (Revised), “Uniform Administrative Requirements for Grants and Agreements with Institutions of Higher Education, Hospitals, and other Nonprofit Organizations.”

• Circular No. A-102, Uniform Administrative Requirements for Grants-in-Aid to State and Local Governments.

• Circular A-133, Audits of States, Local Government, and Non-profit Organizations.

Please reference http://www.whitehouse.gov/omb/grants_circulars/ for additional information:

VI.3. Reporting Requirements. You must provide ECA with a hard copy original plus one electronic copy of the following reports:

VI.3a. Final Reports. A final program and financial report no more than 90 days after the expiration of the award;

VI.3b. One-page Report. A concise, one-page final program report summarizing program outcomes no more than 90 days after the expiration of the award. This one-page report will be transmitted to OMB, and be made available to the public via OMB's USAspending.gov Web site—as part of ECA's Federal Funding Accountability and Transparency Act (FFATA) reporting requirements.

VI.3c. SF-PPR. A SF-PPR, “Performance Progress Report” Cover Sheet should be submitted with all program reports.

VI.3d. Quarterly reports. Quarterly program and financial reports should be submitted for the duration of the program. For program reports, award recipients will be required to provide reports analyzing their evaluation findings to the Bureau. (Please refer to section IV.3.d.3, “Program Monitoring and Evaluation”). All data collected, including survey responses and contact information, must be maintained for a minimum of three years and provided to the Bureau upon request. All reports must be sent to the ECA Grants Officer and ECA Program Officer listed in the final assistance award document.

VI.4. Additional Program Data Requirements:

VI.4a. Data on Program participants and activities. Award recipients will be required to maintain specific data on program participants and activities in an electronically accessible database format that can be shared with the Bureau as required. At a minimum, the data must include the following: Name, address, contact information and biographic sketch of all persons who travel internationally on funds provided by the agreement or who benefit from the award funding but do not travel.

VI.4b. Travel. Itineraries of international and domestic travel, providing dates of travel and cities in which any exchange experiences take place. Final schedules for in-country and U.S. activities must be received by the ECA Program Officer at least three work days prior to the official opening of the activity.

VII. Agency Contacts

For questions about this announcement, contact: Jim Ogul, Office of Citizen Exchanges, ECA/PE/C, U.S. Department of State, SA-5, 3rd Floor, 2200 C St., NW., Washington, DC 20522-0503, ph. tel: (202) 632-6055, e-mail: ogulje@state.gov. All correspondence with the Bureau concerning this RFGP should reference the above title and number ECA/PE/C-10-01.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.4 above.

Dated: March 31, 2010.
Maura M. Pally,
Acting Assistant Secretary for Educational and Cultural Affairs, Department of State.

[FR Doc. 2010-7981 Filed 4-7-10; 8:45 am]

BILLING CODE 4710-05-P